DEPARTMENT OF AGRICULTURE

Submission for OMB Review; Comment Request

The Department of Agriculture has submitted the following information collection requirement(s) to OMB for review and approval under the Paperwork Reduction Act of 1995, Public Law 104-13. Comments are requested regarding: whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology Comments regarding these information collections are best assured of having their full effect if received by April 22, 2024. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Agricultural Marketing Service

Title: Cotton Classing, Testing, and Standards.

OMB Control Number: 0581-0008.

Summary of Collection: The U.S. Cotton Standards Act, 7 U.S.C. 51, 53 and 55, authorizes the USDA to supervise the various activities directly associated with the classification or grading of cotton, cotton linters, and cottonseed based on official USDA Standards. The Cotton and Tobacco Program of the Agricultural Marketing Service carries out this supervision and is responsible for the maintenance of the functions to which these forms relate. USDA is the only Federal agency authorized to establish and promote the use of the official cotton standards of the U.S. in interstate and foreign commerce and to supervise the various activities associated with the classification or grading of cotton, cotton linters, and cottonseed based on official USDA standards.

Need and Use of the Information: The Agricultural Marketing Service collects the information using various forms. Form FD-210 (formerly CN-357) is submitted by owners of cotton to request cotton classification services. The request contains information for USDA to ascertain proper ownership of the samples submitted, distribute classification results, and bill for services. Information about the origin and handling of the cotton is necessary in order to properly evaluate and classify the samples.

Form CN-246 is submitted by cotton gins and warehouses seeking to serve as licensed samplers. The license period is 5 years. Licenses issued by the USDA, AMS, Cotton and Tobacco Program authorize the warehouse/gin to draw and submit samples to ensure the proper application of standards in the classification of cotton and to prevent deception in their use.

Form CN-383 is a package of forms designated as CN-383-a through CN-383-k which is submitted by cotton producers, ginners, warehouseman, cooperatives, manufacturers, merchants, and crushers interested in acquiring cotton classification standards and round testing services. Forms CN-383-a,b,c,d,h,i and k are used for ordering cotton classification standards. Forms CN-383-e,f,g and j are used for ordering round testing services. For the round testing services, additional data sheets are produced and provided by USDA for the purpose of collecting test data. Since the last information collection renewal, on form 383A, the ranges of values for the cotton were replaced by Xs due to slight changes that occur in the range of cotton values as the agency procures cottons and establishes values.

If this information is not collected or collected less frequency, Federal services could not be provided as authorized by the U.S. Cotton Standards Act.

Description of Respondents: Business or other for-profit.

Number of Respondents: 858.

Frequency of Responses: Reporting: Annually.

Total Burden Hours: 134.

Agricultural Marketing Service

Title: Vegetable and Specialty Crops.

OMB Control Number: 0581-0178.

Summary of Collection: The Agricultural Marketing Agreement Act of 1937 (7 U.S.C. 601-674; Act) was designed to permit regulation of certain agricultural commodities for the purpose of providing orderly marketing conditions in interstate commerce and improving returns to growers. The Orders and Agreements become effective only after public hearings are held in accordance with formal rulemaking procedures specified by the Act. The vegetable, and specialty crops marketing order programs provide an opportunity for producers in specified production areas to work together to solve marketing problems that cannot be solved individually.

Need and Use of the Information: Various forms are used to collect information necessary to effectively carry out the requirements of the Act and the Order/Agreement. This includes forms covering the selection process for industry members to serve on a marketing order's committee or board and ballots used in referenda to amend or continue marketing orders. Orders and Agreements can authorize the issuance of grade, size, quality, maturity, inspection requirements, pack and container requirements, and pooling and volume regulations. Information collected is used to formulate market policy, track current inventory and statistical data for market development programs, ensure compliance, and verify eligibility, monitor and record grower's information. If this information were not collected, it would eliminate data needed to keep the industry and the Secretary abreast of changes at the State and local level.

Description of Respondents: Business or other for profit; Farms.

Number of Respondents: 14,190.

Frequency of Responses: Reporting: On occasion, Annually.

Total Burden Hours: 18,438.

Agricultural Marketing Service

Title: National Organic Program.

OMB Control Number: 0581-0191.

Summary of Collection: The Organic Foods Production Act of 1990 (OFPA), as amended (7 U.S.C. chapter 94) (Attachment 1), authorized the Secretary of Agriculture to establish the National Organic Program (NOP) and accredit certifying agents to certify that farms and businesses meet national organic standards. Under OFPA, the purpose of the NOP is to: (1) establish national standards governing the marketing of certain agricultural products as organically produced products; (2) assure consumers that organically produced products meet a consistent standard; and (3) facilitate interstate commerce in fresh and processed food that is organically produced (7 U.S.C. 6501).

Need and Use of the Information: The information collected is used by USDA, State program governing State officials, and certifying agents. The information is used to evaluate compliance with OFPA and NOP for administering the program, for management decisions and planning, for establishing the cost of the program and to support any administrative and regulatory actions in response to non-compliance with OFPA. Certifying agents will have to submit an application to USDA to become accredited to certify organic production and handling operations. Auditors will review the application, perform site evaluation and submit reports to USDA, who will make a decision to grant or deny accreditation. Producers, handlers and certifying agents whose operations are not approved have the right to mediation and appeal the decision. Reporting and recordkeeping are essential to the integrity of the organic certification system. If the collection of information was not conducted, the AMS would not be able to carry out the intent of Congress as it enforces the OFPA.

Description of Respondents: Farms; Business or other for-profit; State, Local or Tribal Government.

Number of Respondents: 55,285.

Frequency of Responses: Reporting: Annually; Recordkeeping.

Total Burden Hours: 3,940,459.

Agricultural Marketing Service

Title: List of U.S. Manufacturers of Specific CVM-Regulated Products with Interest in Exporting Covered Products to China.

OMB Control Number: 0581-0339.

Summary of Collection: The Agricultural Marketing Act of 1946 (AMA) (7 U.S.C. 1621-1627) as amended directs and authorizes the U.S. Department of Agriculture (USDA) to provide inspection, certification, and verification services of the quality and condition of agricultural products which facilitate the marketing of agricultural products. To provide programs and services, section 203(h) of the AMA (7 U.S.C. 1622(h)) directs and authorizes the Secretary of Agriculture to inspect, certify, and verify agricultural products under such rules and regulations as the Secretary may prescribe, including assessment and collection of fees for the cost of service. The regulation in 7 CFR 62—AMS Audit Verification and Accreditation Programs is a collection of voluntary, audit-based, user-fee funded verification programs that allow applicants to have program documentation and program processes assessed by AMS auditor(s) and other USDA officials.

Need and Use of the Information: The information collected is used only by authorized representatives of USDA (AMS, Livestock and Poultry Program's QAD auditing staff) and is used to conduct services requested by respondents. Information collected includes but is not limited to facility name, address, and identifier, and product. The information collection requirements in this request are essential to carry out the intent of the AMA, to provide the respondents the type of service they request, and to administer the program.

Description of Respondents: Businesses or other for-profits.

Number of Respondents: 450.

Frequency of Responses: Reporting: Annually.

Total Burden Hours: 37.

Levi S. Harrell,
Departmental Information Collection Clearance Officer.

[FR Doc. 2024-06001 Filed 3-20-24; 8:45 am]

BILLING CODE 3410-02-P